DEPARTMENT OF ENERGY

Federal Energy Regulatory Commission

[Docket Nos. RM01-10-000, EY06-6-000]

Standards of Conduct for Transmission Providers; Florida Power & Light Company; Notice Granting Waiver of Posting and Recordkeeping Requirements

October 28, 2005.

On October 27, 2005, Florida Power & Light Company (FPL) filed to seek a temporary emergency waiver of section 358.4(a)(2) of the Commission's regulations and for any other waivers necessary for FPL to proceed with the restoration work on its transmission and distribution systems necessitated by Hurricane Wilma. FPL requests that the waiver begin on October 25, 2005 and continue through November 30, 2005. Effective on the date of this notice, the Commission will grant FPL a waiver, until November 15, 2005, of the otherwise applicable requirements of section 358.4(a)(2) to record a log of emergency-related deviations from the Standards of Conduct and to post these deviations on its web site.

FPL explains that Hurricane Wilma was a Category 3 hurricane with hurricane force winds that cut a 180-mile swath across southern Florida and had tropical-force winds well beyond that. FPL states that about 60 percent of its 35-county territory was affected, covering nearly 22,000 square miles. FPL states, further, that its transmission lines and substations have been severely damaged. FPL notes that approximately 3.2 million of its 4.3 million customers were without power at the height of the damage. FPL estimates that it may take four to five weeks to restore power to all its customers. FPL explains that its restoration force totals over 6,000 employees, including out-of-state crews and contractors, in addition to FPL teams.

FPL states that the entire workforce of FPL Group is involved in these restoration efforts on FPL's transmission and distribution systems. FPL anticipates that, due to the magnitude of the task, it is likely that there will be numerous communications among employees concerning the status of the restoration and to coordinate joint operations and repair work. FPL explains that the requirement to report each deviation of the Standards of Conduct within twenty-four hours would create a monumental task that could slow its restoration efforts. FPL notes that the waiver request is limited to those employees involved in the Hurricane Wilma restoration effort and the communications required to carry out the restoration. FPL concludes, therefore, that good cause exists to grant it a waiver of this requirement.

The Commission has previously granted similar waivers due to Hurricane Katrina ¹ and Hurricane Rita.² The waivers, among other things, allowed affected transmission providers to delay for a limited period of time compliance with the requirement of section 358.4(a)(2) of the Commission's regulations, 18 CFR 358.4(a)(2)(2005), to report to the Commission and post on the OASIS or Internet Web site, as applicable, each emergency that resulted in any deviation from the Standards of Conduct. In addition, due to the extreme nature of the emergency in each instance, the Commission also waived, for those limited periods, the requirements to record and retain a record of each deviation of the Standards of Conduct.³

¹ Notice Granting Extension of Time To Comply With Posting and Other Requirements, Standards of Conduct for Transmission Providers, Docket Nos. EY05-14-000, et al. (August 31, 2005); Notice Waiving Recordkeeping Requirements, Standards of Conduct for Transmission Providers, Docket Nos. EY05-14-001, et al. (September 7, 2005).

² Notice Granting Extension of Time To Comply With Posting and Other Requirements, Standards of Conduct for Transmission Providers, Docket Nos. EY05-20-000, et al. (September 23, 2005).

³ Supra notes 1 and 2.

The Commission grants FPL a waiver of the recording and posting requirements of section 358.4(a)(2) of the Commission's regulations in these emergency circumstances, effective on the date of this notice until November 15, 2005, without prejudice to FPL requesting a further extension, if necessary. The Commission directs FPL to ensure that the employees affected by this waiver observe the no-conduit prohibition in the Standards of Conduct, 18 CFR 358.5(b)(7) (2005).

Magalie R. Salas,
Secretary.

[FR Doc. E5-6115 Filed 11-3-05; 8:45 am]

BILLING CODE 6717-01-P